PEACE CORPS

Proposed Information Collection Requests

AGENCY: Peace Corps.

ACTION: Notice of public use form review request submission to the Office of Management and Budget (OMB Control Number 0420-0533).

SUMMARY: Pursuant to the paperwork Reduction Act of 1981 (44 USC, Chapter 35), the Peace Corps has submitted to the Office of Management and Budget (OMB) a request for approval of information collections, OMB Control Number 0420-0533, the Peace Corps Crisis Corps Volunteer Application Form. This is a renewal of an active information collection. The initial Federal Register notice was published on April 23, 2003, Volume 68, No. 78, p. 20035 for 60 days. Also available at GPO access: wais.access.gpo.gov. No comments, inquiries, or responses to the notice were received. A copy of the information collection may be obtained from Mr. Dan Sullivan, Director of the Crisis Corps, Peace Corps, 1111 20th Street, NW., Room 7305, Washington, DC 20526. Mr. Sullivan may be contacted by telephone at 202-692-2250. Comments on the form should also be addressed to the attention of the Desk Officer for the Peace Corps, Office of Management and Budget, NEOB, Washington, DC 20503. Comments should be received on or before August 20, 2003.

The purpose of this information collection is necessary to recruit qualified Volunteers to serve in the Peace Corps' Crisis Corps Program. The information provided in the application is used by Crisis Corps staff to perform initial screening for potential candidates for specific Crisis Corps assignments. The purpose of this notice is to allow for public comment on whether the proposed collection of information is necessary for the proper performance of the functions of the Peace Corps, including whether their information will have practical use; the accuracy of the agency's estimate of the burden of the proposed collection of information, including the validity of the methodology and assumptions used; ways to enhance the quality, utility and the clarity of the information to be collected; and, ways to minimize the burden of the collection of information on those who are to respond, including through the use of automated collection techniques, when appropriate, and other forms of information technology.

Information Collection Abstract

Title: Peace Corps' Crisis Corps Volunteer Application Form.

Need for and Use of This Information: The Peace Corps' Crisis Corps Volunteer Application Form is completed by previous Peace Corps Volunteers; known as Returned Peace Corps Volunteers (RPCVs). The RPCVs apply to serve in the Crisis Corps after successfully completing their Peace Corps service. The Peace Corps' Crisis Corps Application is completed by applicants for Crisis Corps assignments to provide basic information concerning technical and language skills, and availability for Crisis Corps assignments. The application form from the RPCVs is used to perform initial screenings for potential candidates for specific Crisis Corps assignments. The Crisis Corps is an exciting Peace Corps Program that utilizes RPCVs to help communities overseas recover and rebuild in the aftermath of natural disasters and humanitarian crises. There are no other means of obtaining the required data. The Crisis Corps is working toward an electronic application; this version is not available at this time. The Crisis Corps Program fulfills the first and second goals of the Peace Corps as required by Congressional legislation.

Respondents: Returned Peace Corps Volunteers (RPCVs).

Respondents Obligation to Reply: Voluntary.

Burden on the Public:

a. Annual reporting burden: 54 hours.

b. Annual record keeping burden: 0 hours.

c. Estimated average burden per response: 5 minutes.

d. Frequency of response: One time.

e. Estimated number of likely respondents: 650.

f. Estimated cost to respondents: $1.97.

This notice is issued in Washington, DC on July 11, 2003.
Gopal Khanna,
Chief Information Officer.

[FR Doc. 03-18433 Filed 7-18-03; 8:45 am]

BILLING CODE 6051-01-M